DEPARTMENT OF THE INTERIOR

National Park Service

Notice of Inventory Completion for Native American Human Remains and Associated Funerary Objects in the Possession of the Phoebe A. Hearst Museum of Anthropology, University of California, Berkeley, Berkeley, CA, and in the Control of the U.S. Department of the Interior, Bureau of Land Management, California State Office, Sacramento, CA

AGENCY: National Park Service, Interior.

ACTION: Notice.

Notice is hereby given in accordance with provisions of the Native American Graves Protection and Repatriation Act (NAGPRA), 43 CFR 10.9, of the completion of an inventory of human remains and associated funerary objects in the possession of the Phoebe A. Hearst Museum of Anthropology, University of California, Berkeley, Berkeley, CA and in the control of the U.S. Department of the Interior, Bureau of Land Management, California State Office, Sacramento, CA.

This notice is published as part of the National Park Service’s administrative responsibilities under NAGPRA, 43 CFR 10.2 (c). The determinations within this notice are the sole responsibility of the museum, institution, or Federal agency that has control of these Native American human remains and associated funerary objects. The National Park Service is not responsible for the determinations within this notice.

An assessment of the human remains, and catalogue records and associated documents relevant to the human remains, was made by Phoebe A. Hearst Museum professional staff in consultation with representatives of the Department of the Interior, Bureau of Land Management, California State Office; Battle Mountain Band of the Te-Moak Tribes of Western Shoshone Indians of Nevada; Big Pine Band of Owens Valley Paiute Shoshone Indians of the Big Pine Reservation, California; Confederated Tribes of the Goshute Reservation, Nevada and Utah; Death Valley Timbi-Sha Shoshone Band of California; Elko Band of the Te-Moak Tribes of Western Shoshone Indians of Nevada; Ely Shoshone Tribe of Nevada; Fort Independence Indian Community of Paiute Indians of the Fort Independence Reservation, California; Fort McDermitt Paiute and Shoshone Tribes of the Fort McDermitt Indian Reservation, Nevada and Oregon; Paiute-Shoshone Indians of the Bishop Community of the Bishop Colony, California; Paiute-Shoshone Indians of the Lone Pine Community of the Lone Pine Reservation, California; Paiute-Shoshone Tribe of the Fallon Reservation and Colony, Nevada; Shoshone-Paiute Tribes of the Duck Valley Reservation, Nevada; Skull Valley Band of Goshute Indians of Utah; South Fork Band of the Te-Moak Tribes of Western Shoshone Indians of Nevada; Wells Indian Colony Band of the Te-Moak Tribes of Western Shoshone Indians of Nevada; and the Yomba Shoshone Tribe of the Yomba Reservation, Nevada.

In 1946-54, human remains representing at least two individuals were removed during excavations at the Rose Spring site (CA-Iny-372), Inyo County, CA, by Mr. and Mrs. Harry S. Riddle and Francis Riddle. These human remains were donated to the Phoebe A. Hearst Museum by Mr. and Mrs. Riddle in 1956. No known individuals were identified. The one associated funerary object is a projectile point.

Stylistic attributes of the projectile point, a Desert-Side Notched Point, date the burials to post-A.D. 1300. Based on the geographic location of the burials, and the date of occupation, these human remains are determined to be most likely affiliated with the Battle Mountain Band of the Te-Moak Tribes of Western Shoshone Indians of Nevada; Big Pine Band of Owens Valley Paiute Shoshone Indians of the Big Pine Reservation, California; Confederated Tribes of the Goshute Reservation, Nevada and Utah; Death Valley Timbi-Sha Shoshone Band of California; Elko Band of the Te-Moak Tribes of Western Shoshone Indians of Nevada; Ely Shoshone Tribe of Nevada; Fort Independence Indian Community of Paiute Indians of the Fort Independence Reservation, California; Fort McDermitt Paiute and Shoshone Tribes of the Fort McDermitt Indian Reservation, Nevada and Oregon; Paiute-Shoshone Indians of the Bishop Community of the Bishop Colony, California; Paiute-Shoshone Indians of the Lone Pine Community of the Lone Pine Reservation, California; Paiute-Shoshone Tribe of the Fallon Reservation and Colony, Nevada; Shoshone-Paiute Tribes of the Duck Valley Reservation, Nevada; Skull Valley Band of Goshute Indians of Utah; South Fork Band of the Te-Moak Tribes of Western Shoshone Indians of Nevada; Wells Indian Colony Band of the Te-Moak Tribes of Western Shoshone Indians of Nevada; and the Yomba Shoshone Tribe of the Yomba Reservation, Nevada.

Based on the above-mentioned information, officials of the Phoebe A. Hearst Museum of Anthropology and the Bureau of Land Management, California State Office, have determined that, pursuant to 43 CFR 10.2 (d)(1), the human remains listed above represent the physical remains of at least two individuals of Native American ancestry. Officials of the Phoebe A. Hearst Museum of Anthropology and the Bureau of Land Management, California State Office, also have determined that, pursuant to 43 CFR 10.2 (d)(2), the one object listed above is reasonably believed to have been placed with or near individual human remains at the time of death or later as part of the death rite or ceremony. Lastly, officials of the Phoebe Hearst Museum of Anthropology and Bureau of Land Management, California State Office, have determined that, pursuant to 43 CFR 10.2 (e), there is a relationship of shared group identity that can be reasonably traced between these Native American human remains and associated funerary object and the Battle Mountain Band of the Te-Moak Tribes of Western Shoshone Indians of Nevada; Big Pine Band of Owens Valley Paiute Shoshone Indians of the Big Pine Reservation, California; Confederated Tribes of the Goshute Reservation, Nevada and Utah; Death Valley Timbi-Sha Shoshone Band of California; Elko Band of the Te-Moak Tribes of Western Shoshone Indians of Nevada; Ely Shoshone Tribe of Nevada; Fort Independence Indian Community of Paiute Indians of the Fort Independence Reservation, California; Fort McDermitt Paiute and Shoshone Tribes of the Fort McDermitt Indian Reservation, Nevada and Oregon; Paiute-Shoshone Indians of the Bishop Community of the Bishop Colony, California; Paiute-Shoshone Indians of the Lone Pine Community of the Lone Pine Reservation, California; Paiute-Shoshone Tribe of the Fallon Reservation and Colony, Nevada; Shoshone-Paiute Tribes of the Duck Valley Reservation, Nevada; Skull Valley Band of Goshute Indians of Utah; South Fork Band of the Te-Moak Tribes of Western Shoshone Indians of Nevada; Wells Indian Colony Band of the Te-Moak Tribes of Western Shoshone Indians of Nevada; and the Yomba Shoshone Tribe of the Yomba Reservation, Nevada.

This notice has been sent to officials of the Battle Mountain Band of the Te-Moak Tribes of Western Shoshone Indians of Nevada; Big Pine Band of Owens Valley Paiute Shoshone Indians of the Big Pine Reservation, California; Confederated Tribes of the Goshute Reservation, Nevada and Utah; Death Valley Timbi-Sha Shoshone Band of California; Elko Band of the Te-Moak Tribes of Western Shoshone Indians of Nevada; Ely Shoshone Tribe of Nevada; Fort Independence Indian Community of Paiute Indians of the Fort Independence Reservation, California; Fort McDermitt Paiute and Shoshone Tribes of the Fort McDermitt Indian Reservation, Nevada and Oregon; Paiute-Shoshone Indians of the Bishop Community of the Bishop Colony, California; Paiute-Shoshone Indians of the Lone Pine Community of the Lone Pine Reservation, California; Paiute-Shoshone Tribe of the Fallon Reservation and Colony, Nevada; Shoshone-Paiute Tribes of the Duck Valley Reservation, Nevada; Skull Valley Band of Goshute Indians of Utah; South Fork Band of the Te-Moak Tribes of Western Shoshone Indians of Nevada; Wells Indian Colony Band of the Te-Moak Tribes of Western Shoshone Indians of Nevada; and the Yomba Shoshone Tribe of the Yomba Reservation, Nevada. Representatives of any other Indian tribe that believes itself to be culturally affiliated with these human remains and associated funerary objects should contact C. Richard Hitchcock, NAGPRA Coordinator, Phoebe A. Hearst Museum of Anthropology, University of California, Berkeley, Berkeley CA 94720, telephone (510) 642-6096, before October 11, 2002. Repatriation of the human remains and associated funerary objects to the Battle Mountain Band of the Te-Moak Tribes of Western Shoshone Indians of Nevada; Big Pine Band of Owens Valley Paiute Shoshone Indians of the Big Pine Reservation, California; Confederated Tribes of the Goshute Reservation, Nevada and Utah; Death Valley Timbi-Sha Shoshone Band of California; Elko Band of the Te-Moak Tribes of Western Shoshone Indians of Nevada; Ely Shoshone Tribe of Nevada; Fort Independence Indian Community of Paiute Indians of the Fort Independence Reservation, California; Fort McDermitt Paiute and Shoshone Tribes of the Fort McDermitt Indian Reservation, Nevada and Oregon; Paiute-Shoshone Indians of the Bishop Community of the Bishop Colony, California; Paiute-Shoshone Indians of the Lone Pine Community of the Lone Pine Reservation, California; Paiute-Shoshone Tribe of the Fallon Reservation and Colony, Nevada; Shoshone-Paiute Tribes of the Duck Valley Reservation, Nevada; Skull Valley Band of Goshute Indians of Utah; South Fork Band of the Te-Moak Tribes of Western Shoshone Indians of Nevada; Wells Indian Colony Band of the Te-Moak Tribes of Western Shoshone Indians of Nevada; and the Yomba Shoshone Tribe of the Yomba Reservation, Nevada may begin after that date if no additional claimants come forward.

Dated: August 13, 2002.
Robert Stearns,
Manager, National NAGPRA Program.

[FR Doc. 02-23018 Filed 9-10-02; 8:45 am]

BILLING CODE 4310-70-S